DEPARTMENT OF HOMELAND SECURITY

Coast Guard

[USCG-2003-16297]

National Preparedness for Response Exercise Program (PREP)

AGENCY: Coast Guard, DHS.

ACTION: Notice; request for public comments on PREP triennial exercise schedule for 2004, 2005, and 2006.

SUMMARY: The Coast Guard, the Research and Special Programs Administration, the Environmental Protection Agency and the Minerals Management Service, in concert with representatives from various State governments, industry, environmental interest groups, and the general public, developed the Preparedness for Response Exercise Program (PREP) Guidelines to reflect the consensus agreement of the entire oil spill response community. This notice announces the PREP triennial cycle, 2004 through 2006, requests comments from the public, and requests industry participants to volunteer for scheduled PREP Area exercises.

DATES: Comments and related material must reach the Docket Management Facility on or before December 15, 2003.

ADDRESSES: You may submit comments identified by Coast Guard docket number USCG-2003-16297 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: If you have questions on this notice, or need general information regarding the PREP Program and the schedule, contact Mr. Robert Pond, Office of Response, Plans and Preparedness Division (G-MOR-2), U.S. Coast Guard Headquarters, telephone 202-267-6603, fax 202-267-4065 or e-mail rpond@comdt.uscg.mil. If you have questions on viewing or submitting material to the docket, call Ms. Andrea M. Jenkins, Program Manager, Docket Operations, telephone 202-366-0271.

SUPPLEMENTARY INFORMATION: The Preparedness for Response Exercise Program (PREP) Area exercise schedule and exercise design manuals are available on the Internet at http://www.uscg.mil/hq/nsfweb/nsfcc/prep/index.html. To obtain a hard copy of the exercise design manual, contact Ms. Melanie Barber at the Research and Special Programs Administration, Office of Pipeline Safety, at 202-366-4560. The 2003 PREP Guidelines booklet is available at no cost on the Internet at http://www.uscg.mil/hq/nsfweb/nsfcc/prep/index.html or by writing or faxing the TASC DEPT Warehouse, 33141Q 75th Avenue, Landover, MD 20785, facsimile: 301-386-5394. The stock number of the manual is USCG-X0241. Please indicate the quantity when ordering. Quantities are limited to 10 per order.

Public Participation and Request for Comments

We encourage you to respond to this notice by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify the docket number for this notice (USCG-2003-16297), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this triennial exercise schedule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

In 1994, the Coast Guard (USCG) and the Research and Special Programs Administration (RSPA) of the Department of Transportation, the U.S. Environmental Protection Agency (U.S. EPA), and the Minerals Management Service (MMS) of the Department of Interior, coordinated the development of the National Preparedness for Response Exercise Program (PREP) Guidelines to provide guidelines for compliance with the Oil Pollution Act of 1990 (OPA 90) pollution response exercise requirements (33 U.S.C. 1321(j)). The guiding principles for PREP distinguish between internal and external exercises. Internal exercises are conducted within the plan holder's organization. External exercises extend beyond the plan holder's organization to involve other members of the response community. External exercises are separated into two categories: (1) Area exercises, and (2) Government-initiated unannounced exercises. These exercises are designed to evaluate the entire response mechanism in a given area to ensure adequate pollution response preparedness.

Since 1994, the USCG, U.S. EPA, MMS, and RSPA's Office of Pipeline Safety (OPS) have published a triennial schedule of Area exercises. In short, the Area exercises involve the entire response community (Federal, State, local, and industry participants) and therefore, require more extensive planning than other oil spill response exercises. The PREP Guidelines describe all of these exercises in more detail.

Table 1 below lists the dates and Federal Register cites of past PREP exercise notices.

Table 1—Past Prep Exercise Notices
Date published | Federal Register Cite | Notice
October 30, 2002 | 67 FR 66189 | PREP triennial exercise schedule for 2003, 2004, and 2005.
January 22, 2002 | 67 FR 2944 | PREP triennial exercise schedule for 2002, 2003, and 2004.
February 9, 2001 | 66 FR 9744 | PREP triennial exercise schedule for 2001, 2002, and 2003.
March 7, 2000 | 65 FR 12049 | PREP triennial exercise schedule for 2000, 2001, and 2002.
June 15, 1999 | 64 FR 32090 | PREP triennial exercise schedule for 1999, 2000, and 2001.
January 8, 1998 | 63 FR 1141 | PREP triennial exercise schedule for 1998, 1999, and 2000.
March 26, 1997 | 62 FR 14494 | PREP triennial exercise schedule for 1997, 1998, and 1999.
January 26, 1996 | 61 FR 2568 | Correction to PREP triennial exercise schedule for 1996, 1997, and 1998.
November 13, 1995 | 60 FR 57050 | PREP triennial exercise schedule for 1996, 1997, and 1998.
October 26, 1994 | 59 FR 53858 | Revision to PREP triennial exercise schedule for 1995, 1996, and 1997.
March 25, 1994 | 59 FR 14254 | PREP triennial exercise schedule for 1995, 1996, and 1997.

This notice announces the next triennial schedule of Area exercises. If a company wants to volunteer for an Area exercise, a company representative may call either the Coast Guard or EPA On-Scene Coordinator (OSC) where the exercise is scheduled.

Table 2 below is the PREP schedule for calendar years 2004, 2005, and 2006.

Table 2.—Prep Schedule
Area | Agency | Qtr ¹ | Participant
Government-Led Area Exercises
Calendar Year 2004
Guam (Marine Safety Office (MSO) Guam) | CG | 1
Los Angeles/Long Beach South (MSO LA/LB), SONS ² | CG | 2
San Diego (MSO San Diego), SONS ² | CG | 2
Prince William Sound (MSO Valdez) | CG | 4
Calendar Year 2005
Houston-Galveston (MSO Houston) | CG | 1
Virginia Coastal (MSO Hampton Road) | CG | 1
Alabama-Mississippi (MSO Mobile) | CG | 2
Providence (MSO Providence) | CG | 3
Western Alaska (MSO Anchorage) | CG | 3
Region V Regional Contingency Plan (RCP) (EPA Region V) | EPA | 4
Calendar Year 2006
Cleveland, OH (MSO Cleveland) | CG | 1
Jacksonville, FL (MSO Jacksonville) | CG | 2
To Be Determined | CG | 2
Northwest Area-Portland (MSO Portland) | CG | 3
Region IX RCP or Oceania (EPA Region IX) | EPA | 3
New Orleans, LA (MSO New Orleans) | CG | 4

Area | Qtr ¹ | Participant
Industry-Led Area Exercises
Calendar Year 2004
Chicago, IL (MSO Chicago) | 2
Long Island Sound (MSO Long Island) | 2
Maryland Coastal (MSO Baltimore) | 2
San Francisco Bay (MSO San Francisco) | 2
South Texas Coast (MSO Corpus Christi) | 2
Charleston, SC (MSO Charleston) | 3
Morgan City, LA (MSO Morgan City) | 3
New York, NY (Activities NY) | 3
Savannah, GA (MSO Savannah) | 3
Duluth-Superior (MSO Duluth) | 4
Eastern Wisconsin (MSO Milwaukee) | 4
Northwest-Puget Sound (MSO Puget Sound) | 4
Region IV RCP (EPA Region IV) | 4
Region VII RCP (EPA Region VII) | 4
Calendar Year 2005
Detroit, MI (MSO Detroit) | 1
Region VIII (EPA Region VIII) | 1
Boston (MSO Boston) | 2
Hawaiian Islands (MSO Honolulu) | 2
South Florida (MSO Miami) | 2
South Los Angeles/Long Beach, CA (MSO LA/LB) | 2
S. North Carolina (MSO Wilmington) | 3
SW La./SE Texas (MSO Port Arthur) | 3
Tampa, FL (MSO Tampa) | 3
Region X or EPA Alaska RCP (EPA Region X) | 4
Sault Ste. Marie, MI (MSO Sault Ste. Marie) | 4
Calendar Year 2006
Florida Panhandle (MSO Mobile) | 1
SE Alaska (MSO Juneau) | 1
Buffalo (MSO Buffalo) | 2
Maine-New Hampshire (MSO Portland, ME) | 2
Philadelphia, PA (MSO Philadelphia) | 2
Region II RCP or Caribbean (EPA Region II) | 2
North Coast (CA) Area (MSO San Francisco) | 3
Region III RCP (EPA Region III) | 3
Region VI RCP (EPA Region VI) | 3
Caribbean Area (MSO San Juan) | 4
Northern Marianas (MSO Guam) | 4
Western Lake Erie (MSO Toledo) | 4
¹ Quarters: 1 (January-March); 2 (April-June); 3 (July-September); 4 (October-December).
² SONS: 2004 Spill of National Significance Exercise.

Dated: October 9, 2003.
Joseph J. Angelo,
Director of Standards, Marine Safety, Security and Environmental Protection.

[FR Doc. 03-26129 Filed 10-15-03; 8:45 am]

BILLING CODE 4910-15-P